OFFICE OF PERSONNEL MANAGEMENT

Federal Salary Council

AGENCY: Office of Personnel Management.

ACTION: Notice of meeting.

SUMMARY: The Federal Salary Council will meet at the time and location shown below. The Council is an advisory body composed of representatives of Federal employee organizations and experts in the fields of labor relations or pay policy. The Council makes recommendations to the President's Pay Agent (the Secretary of Labor and the Directors of the Office of Management and Budget and the Office of Personnel Management) about the locality pay program for General Schedule employees under section 5304 of title 5, United States Code. The Council's recommendations cover the establishment or modification of locality pay areas, the coverage of salary surveys, the process of comparing Federal and non-Federal rates of pay, and the level of comparability payments that should be paid.

At this meeting, the Council will consider whether any changes should be recommended in locality pay area boundaries and may also consider which geographic locations should be surveyed for locality pay purposes and other aspects of the locality pay program. The Council will review the new metropolitan statistical areas announced by the Office of Management and Budget in June 2003, new commuting pattern data, and other information related to establishing or modifying locality pay area boundaries. The Council will meet again later this fall to continue this review and formulate its recommendations for locality pay areas, methodology, and rates for 2005. The meeting is open to the public.

DATES: September 3, 2003, at 1 p.m.

Location: Office of Personnel Management, 1900 E Street NW., Room 5303 (Pendleton Room), Washington, DC.

FOR FURTHER INFORMATION CONTACT: Donald J. Winstead, Deputy Associate Director for Pay and Performance Policy, Office of Personnel Management, 1900 E Street NW., Room 7H31, Washington, DC 20415-8200. Phone (202) 606-2838; FAX (202) 606-0824; or e-mail at pay-performance-policy@opm.gov.

For the President's Pay Agent
Kay Coles James,
Director.

[FR Doc. 03-21041 Filed 8-13-03; 2:02 pm]

BILLING CODE 6325-39-P